DEPARTMENT OF HEALTH AND HUMAN SERVICES

National Institutes of Health

National Cancer Institute; Cancellation of Meeting

Notice is hereby given of the cancellation of the National Cancer Institute Director's Consumer Liaison Group, May 9, 2002, 2 p.m. to May 9, 2002, 4 p.m., 6116 Executive Blvd, Rockville, MD, 20852 which was published in the Federal Register on May 1, 2002, 67 FR 21706.

The meeting is cancelled due to scheduling conflicts.

Dated: May 3, 2002.
LaVerne Y. Stringfield,
Director, Office of Federal Advisory Committee Policy.

[FR Doc. 02-11696 Filed 5-9-02; 8:45 am]

BILLING CODE 4140-01-M